COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add to the Procurement List products and services to be furnished by nonprofit agencies employing persons who are blind or have other severe disabilities, and to delete a product and services previously furnished by such agencies.

Comments Must Be Received on or Before: May 11, 2008.

ADDRESSES: Committee for Purchase From People Who Are Blind or Severely Disabled, Jefferson Plaza 2, Suite 10800, 1421 Jefferson Davis Highway, Arlington, Virginia 22202-3259.

For Further Information or to Submit Comments Contact: Kimberly M. Zeich, Telephone: (703) 603-7740, Fax: (703) 603-0655, or e-mail CMTEFedReg@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Pen, Multi-function

NSN: 7510-00-NIB-0797—B3 Aviator Pen, Refill

NSN: 7520-00-NIB-1754—B3 Aviator Pen

NPA: Alphapointe Association for the Blind, Kansas City, MO.

Coverage: A-List for the total Government requirements as specified by the General Services Administration.

Contracting Activity: General Services Administration, Office Supplies & Paper Products Acquisition Ctr, New York, NY.

Pen, Vista Gel

NSN: 7510-00-NIB-0728—Red, .7mm, Refill

NSN: 7520-00-NIB-1761—Red, .7mm

NPA: Industries of the Blind, Inc., Greensboro, NC.

Coverage: A-List for the total Government requirements as specified by the General Services Administration.

Contracting Activity: General Services Administration, Office Supplies & Paper Products Acquisition Ctr, New York, NY.

Services

Service Type/Location: Custodial Services, Peachtree Summit Federal Building, 401 W. Peachtree Street, Atlanta, GA.

NPA: WORKTEC, Jonesboro, GA.

Contracting Activity: General Services Administration, Public Buildings Services, Region 4, Atlanta, GA.

Service Type/Location: Food Service Attendant, Air National Guard—Jacksonville, 14300 Fang Drive, Jacksonville, FL.

NPA: Goodwill Industries of North Florida, Jacksonville, FL.

Contracting Activity: Air National Guard—Jacksonville, 125th Fighter Wing, Jacksonville, FL.

Deletions

Regulatory Flexibility Act Certification

I certify that the following action will not have a significant impact on a substantial number of small entities. The major factors considered for this certification were:

1. If approved, the action should not result in additional reporting, recordkeeping or other compliance requirements for small entities.

2. If approved, the action may result in authorizing small entities to furnish the product and services to the Government.

3. There are no known regulatory alternatives which would accomplish the objectives of the Javits-Wagner-O'Day Act (41 U.S.C. 46-48c) in connection with the product and services proposed for deletion from the Procurement List.

Comments on this certification are invited. Commenters should identify the statement(s) underlying the certification on which they are providing additional information.

End of Certification

The following product and services are proposed for deletion from the Procurement List:

Product

Cover, Toxicological Agents Protective

NSN: 8415-00-261-6443

NPA: Tommy Nobis Enterprises, Inc., Marietta, GA.

Contracting Activity: Defense Supply Center Philadelphia, Philadelphia, PA.

Services

Service Type/Location: Janitorial/Custodial, Curlew Conservation Center, Colville National Forest, Curlew, WA.

NPA: Ferry County Community Services, Republic, WA.

Contracting Activity: U.S. Department of Agriculture, Colville National Forest, Colville, WA.

Service Type/Location: Janitorial/Custodial, Federal Office Building, Ontario Street and Division, Sandpoint, ID.

NPA: Panhandle Special Needs, Inc., Sand Point, ID.

Contracting Activity: General Services Administration, Public Buildings Service, Region 10.

Service Type/Location: Janitorial/Custodial, Schultz Maintenance Complex, Wilson Creek Road, Ellensburg, WA.

NPA: Elmview, Ellensburg, WA.

Contracting Activity: Department of Energy, Spokane, WA.

Kimberly M. Zeich,
Director, Program Operations.

[FR Doc. E8-7772 Filed 4-10-08; 8:45 am]

BILLING CODE 6353-01-P